DEPARTMENT OF ENERGY

Federal Energy Regulatory Commission

Combined Notice of Filings #4

Take notice that the Commission received the following electric rate filings:

Docket Numbers: ER17-1394-014; ER22-1627-009; ER25-2563-002; ER19-1074-028; ER10-1427-021; ER19-1075-028; ER19-529-028; ER12-645-032; ER20-1806-010; ER24-443-010; ER22-192-018; ER24-2602-004; ER22-497-003; ER13-1139-030; ER25-2565-002; ER22-1883-008; ER24-2601-005; ER22-398-008; ER19-89-006; ER21-2410-002; ER17-361-009; ER14-2630-023; ER17-360-009; ER17-362-009; ER16-61-009; ER16-64-009; ER22-1010-016; ER24-2837-003; ER23-2203-007; ER17-539-008; ER17-540-008.

Applicants: Wildwood Solar II, LLC, Wildwood Solar I, LLC, Wildflower Solar, LLC, Unbridled Solar, LLC, TerraForm IWG Acquisition Holdings II, LLC, Tallbear Seville LLC, Seville Solar One LLC, Rio Bravo Solar II, LLC, Rio Bravo Solar I, LLC, Regulus Solar, LLC, Pumpjack Solar I, LLC, Prairie Wolf Solar, LLC, North Rosamond Solar, LLC, Mesa Wind Power LLC, Louise Solar Project, LLC, Ledyard Windpower, LLC, Jackson County Solar, LLC, Imperial Valley Solar 1, LLC, NG Renewables Energy Marketing, LLC, Fillmore County Solar Project, LLC, Evolugen Trading and Marketing LP, Deriva Energy Services, LLC, Catalyst Old River Hydroelectric Limited Partnership, California Ridge Wind Energy LLC, Brookfield Renewable Trading and Marketing LP, Brookfield Renewable Energy Marketing US LLC, Brookfield Energy Marketing LP, Brookfield Energy Marketing Inc., Apple River Solar, LLC, AM Wind Repower LLC, 83WI 8me, LLC.

Description: Notice of Non-Material Change in Status of 83WI 8me, LLC, et al.

Filed Date: 2/2/26.

Accession Number: 20260202-5270.

Comment Date: 5 p.m. ET 2/23/26.

Docket Numbers: ER17-1794-009.

Applicants: Innovative Solar 42, LLC.

Description: Notice of Change in Status of Innovative Solar 42, LLC.

Filed Date: 2/2/26.

Accession Number: 20260202-5261.

Comment Date: 5 p.m. ET 2/23/26.

Docket Numbers: ER21-2557-013; ER22-2662-013; ER22-2663-013; ER22-2664-013; ER23-1275-011; ER23-1276-011; ER24-2249-009; ER24-2251-008; ER24-2854-007; ER24-2855-007; ER24-2856-007; ER25-939-005; ER25-940-005.

Applicants: Aron Energy Prepay 53 LLC, Aron Energy Prepay 52 LLC, Aron Energy Prepay 46 LLC, Aron Energy Prepay 45 LLC, Aron Energy Prepay 44 LLC, Aron Energy Prepay 43 LLC, Aron Energy Prepay 41 LLC, Aron Energy Prepay 22 LLC, Aron Energy Prepay 21 LLC, Aron Energy Prepay 16 LLC, Aron Energy Prepay 15 LLC, Aron Energy Prepay 14 LLC, Aron Energy Prepay 5 LLC.

Description: Notice of Non-Material Change in Status of Aron Energy Prepay 5 LLC, et al.

Filed Date: 2/2/26.

Accession Number: 20260202-5271.

Comment Date: 5 p.m. ET 2/23/26.

Docket Numbers: ER21-2712-006; ER13-2386-014; ER10-2847-012; ER10-2818-019; ER10-2806-019.

Applicants: TransAlta Energy Marketing (U.S.) Inc., TransAlta Energy Marketing Corporation, TransAlta Centralia Generation LLC, Lakeswind Power Partners, LLC, Heartland Generation Ltd.

Description: Notice of Non-Material Change in Status of Heartland Generation Ltd, et al.

Filed Date: 1/30/26.

Accession Number: 20260130-5608.

Comment Date: 5 p.m. ET 2/20/26.

Docket Numbers: ER22-2116-008; ER22-2190-006; ER22-2191-006; ER25-154-004; ER22-2115-008.

Applicants: Timber Road Solar Park LLC, Sandrini BESS Storage LLC, EDPR CA Solar Park II LLC, EDPR CA Solar Park LLC, Blue Harvest Solar Park LLC.

Description: Notice of Change in Status of Blue Harvest Solar Park LLC, et al.

Filed Date: 2/2/26.

Accession Number: 20260202-5272.

Comment Date: 5 p.m. ET 2/23/26.

Docket Numbers: ER26-725-000.

Applicants: MEC Phase 2, LLC.

Description: Supplement to 12/11/2025, MEC Phase 2, LLC, tariff filing.

Filed Date: 2/9/26.

Accession Number: 20260209-5167.

Comment Date: 5 p.m. ET 2/19/26.

Docket Numbers: ER26-945-001.

Applicants: Cape Generating Station 5 LLC.

Description: Tariff Amendment: Cape Project Shared Facilities Agreement—Update to be effective 4/6/2026.

Filed Date: 2/13/26.

Accession Number: 20260213-5195.

Comment Date: 5 p.m. ET 3/6/26.

Docket Numbers: ER26-1385-000.

Applicants: Southern California Edison Company.

Description: 205(d) Rate Filing: UFA, Yellow Pine 3 (TOT950/Q1654-SA No. 373) to be effective 2/14/2026.

Filed Date: 2/13/26.

Accession Number: 20260213-5139.

Comment Date: 5 p.m. ET 3/6/26.

Docket Numbers: ER26-1386-000.

Applicants: PJM Interconnection, L.L.C.

Description: 205(d) Rate Filing: Partially Executed Original NUCRA, SA No. 7851; Network Upgrade No. n9269.0 to be effective 12/31/9998.

Filed Date: 2/13/26.

Accession Number: 20260213-5142.

Comment Date: 5 p.m. ET 3/6/26.

Docket Numbers: ER26-1387-000.

Applicants: PJM Interconnection, L.L.C.

Description: 205(d) Rate Filing: Original GIA, SA No. 7844; Project Identifier No. AF1-161/AG1-109 to be effective 1/14/2026.

Filed Date: 2/13/26.

Accession Number: 20260213-5156.

Comment Date: 5 p.m. ET 3/6/26.

Docket Numbers: ER26-1388-000.

Applicants: PJM Interconnection, L.L.C.

Description: 205(d) Rate Filing: Partially Executed Original NUCRA, SA No. 7867; Network Upgrade No. n9524.0 to be effective 12/31/9998.

Filed Date: 2/13/26.

Accession Number: 20260213-5161.

Comment Date: 5 p.m. ET 3/6/26.

Docket Numbers: ER26-1390-000.

Applicants: Eagle Creek Solar Park LLC.

Description: Initial Rate Filing: Market-Based Rate Application to be effective 4/15/2026.

Filed Date: 2/13/26.

Accession Number: 20260213-5205.

Comment Date: 5 p.m. ET 3/6/26.

Docket Numbers: ER26-1391-000.

Applicants: Colorado Highlands Wind, LLC.

Description: 205(d) Rate Filing: MBR Tariff Update to be effective 2/14/2026.

Filed Date: 2/13/26.

Accession Number: 20260213-5208.

Comment Date: 5 p.m. ET 3/6/26.

Docket Numbers: ER26-1392-000.

Applicants: EDPR CA Solar Park VI LLC.

Description: Initial Rate Filing: Market-Based Rate Applicaton to be effective 4/15/2026.

Filed Date: 2/13/26.

Accession Number: 20260213-5210.

Comment Date: 5 p.m. ET 3/6/26.

Docket Numbers: ER26-1393-000.

Applicants: EDPR Scarlet III LLC.

Description: Initial Rate Filing: Market-Based Rate Application to be effective 4/15/2026.

Filed Date: 2/13/26.

Accession Number: 20260213-5222.

Comment Date: 5 p.m. ET 3/6/26.

Docket Numbers: ER26-1394-000

Applicants: Sonrisa BESS LLC.

Description: Initial Rate Filing: Market-Based Rate Application to be effective 4/15/2026.

Filed Date: 2/13/26.

Accession Number: 20260213-5229.

Comment Date: 5 p.m. ET 3/6/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: February 13, 2026.
Carlos D. Clay,
Deputy Secretary.

[FR Doc. 2026-03317 Filed 2-19-26; 8:45 am]

BILLING CODE 6717-01-P